DEPARTMENT OF ENERGY

Federal Energy Regulatory Commission

[Project No. 11291-023-IN]

Star Mill, Inc.; Notice of Availability of Environmental Assessment

September 9, 2009.

In accordance with the National Environmental Policy Act of 1969 and the Federal Energy Regulatory Commission's regulations, 18 CFR Part 380 (Order No. 486, 52 FR 47879), the Office of Energy Projects has reviewed the proposed termination of license by implied surrender for the Star Milling and Electric Minor Water Power Project, located on the Fawn River in La Grange County, Indiana, and has prepared an Final Environmental Assessment (FEA).

The FEA contains the Commission staff's analysis of the potential environmental effects of the proposed action (termination by implied surrender with project facilities in place), alternative action (termination by implied surrender with partial/full dam removal), and no-action alternative (project would remain licensed and subject to license requirements). On September 3, 2009, the Commission issued an Order Conditionally Terminating License by Implied Surrender which authorized the implied surrender with the project facilities in place. The FEA is attached to the order.

A copy of the FEA is on file with the Commission and is available for inspection. The FEA may also be viewed on the Commission's Web site at http://www.ferc.gov using the “eLibrary” link. Enter the docket number (P-11291) excluding the last three digits in the docket number field to access the document. For assistance, contact FERC Online Support at FERCOnlineSupport@ferc.gov or toll-free at 1-866-208-3372, or for TTY, (202) 502-8659.

Kimberly D. Bose,
Secretary.

[FR Doc. E9-22232 Filed 9-15-09; 8:45 am]

BILLING CODE 6717-01-P